DEPARTMENT OF THE INTERIOR

Bureau of Land Management

[BLM_ID_FRN_MO4500170927; IDI-039687]

Notice of Proposed Withdrawal and Opportunity for Public Meeting for Silver City National Historic Site, Idaho

AGENCY: Bureau of Land Management, Interior.

ACTION: Notice.

SUMMARY: On behalf of the Bureau of Land Management (BLM) and subject to valid existing rights, the Secretary of the Interior proposes to withdraw 311.09 acres of public land from location and entry under the United States mining laws, but not from leasing under the mineral and geothermal leasing laws or disposal under the Mineral Materials Act of 1947, for 50 years to protect the historic and recreational values associated with the Silver City National Historic Site, Idaho. Publication of this notice segregates the lands for up to two years from location and entry under the United States mining laws, subject to valid existing rights, but not from leasing under the mineral and geothermal leasing laws or disposal under the Mineral Materials Act of 1947, while the application is being processed. This notice initiates a 90-day public comment period and announces the opportunity to request a public meeting on the proposed withdrawal.

DATES: Comments and requests for a public meeting must be received by January 16, 2024.

ADDRESSES: All comments and meeting requests should be sent to the BLM Idaho State Office, Attn: ID-933 Realty/Silver City Withdrawal, 1387 S Vinnell Way, Boise, ID 83709, or by email to BLM_ID_LLID933000_Withdrawal@blm.gov.

FOR FURTHER INFORMATION CONTACT: Christine Sloand, Realty Specialist, BLM Idaho State Office, telephone: (208) 373-3897, or csloand@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The BLM has filed a petition/application requesting the Secretary of the Interior to withdraw the following described public lands from location and entry under the United States mining laws, subject to valid existing rights, but not from leasing under the mineral and geothermal leasing laws or disposal under the Mineral Materials Act of 1947, for a period of 50 years.

Boise Meridian, Idaho

T. 4 S., R. 3 W.,

Sec. 31, lots 4 and 5, W½NE¼SE¼ and E½NW¼SE¼;

T. 5 S., R. 3 W.,

Sec. 6, lots 11, 12, 68, 78, 99, 100, and 106 thru 110.

The areas described aggregate 311.09 acres in Owyhee County.

The Secretary of the Interior has approved the petition to file a withdrawal application. The Secretary's approval constitutes her proposal to withdraw and segregate the subject lands (43 CFR 2310.1-3(e)).

The use of a right-of-way, interagency agreement or cooperative agreement, or surface management under 43 CFR subpart 3809 regulations would not adequately constrain non-discretionary uses and would not provide adequate protection for historic and recreational values on these lands.

Water rights will not be needed to fulfill the purpose of the proposed withdrawal.

There are no suitable alternative sites, as the described public lands were specifically selected since they occur within and immediately around the Silver City National Historic Site boundary.

For a period until January 16, 2024, persons who wish to submit comments, suggestions, or objections related to the withdrawal application may present their views in writing to the Bureau of Land Management Idaho State Office at the address listed above. Comments will be available for public review by appointment at the BLM Idaho State Office during regular business hours, 8 a.m. to 4:30 p.m., Monday through Friday, except Federal holidays.

Before including your address, phone number, email address, or other personal identifying information in your comment, you should be aware that your entire comment—including your personally identifying information—may be made publicly available at any time. You may ask the BLM in your comment to withhold your personal identifying information from public review, but we cannot guarantee that we will be able to do so. All submissions from organizations or businesses, and from individuals identifying themselves as representatives of officials of organizations or businesses, will be made available for public inspection in their entirety.

Notice is hereby given that the opportunity for a public meeting is afforded in connection with the withdrawal application. All interested parties who desire a public meeting for the purpose of being heard on the withdrawal application must submit a written request to the Bureau of Land Management Idaho State Office at the address indicated above by January 16, 2024. If the Authorized Officer determines that the BLM will hold a public meeting, the BLM will publish a notice of the time and place in the Federal Register and a local newspaper at least 30 days before the scheduled date of the meeting.

For a period until October 17, 2025, subject to valid existing rights, the public lands described in this notice will be segregated from location and entry under the United States mining laws, but not from leasing under the mineral and geothermal leasing laws, or disposal under the Mineral Materials Act of 1947, while the withdrawal application is being processed, unless the application is denied, canceled, or the withdrawal is approved prior to that date.

The public lands described in this notice would remain open to such forms of disposition as may be allowed by law on the public lands. Licenses, permits, cooperative agreements, or discretionary land use authorizations of a temporary nature and which would not significantly impact the values to be protected by the requested withdrawal may be allowed with the approval of the authorized officer during the temporary segregation period.

This withdrawal application will be processed in accordance with the regulations set forth in 43 CFR part 2300.

(Authority: 43 U.S.C. 1714)

Karen Kelleher,
Idaho State Director.

[FR Doc. 2023-22841 Filed 10-16-23; 8:45 am]

BILLING CODE 4331-19-P